DEPARTMENT OF ENERGY

Federal Energy Regulatory Commission

[Docket No. EC01-35, et al.]

Riverside Canal Power Company, et al.; Electric Rate and Corporate Regulation Filings

January 12, 2001.

Take notice that the following filings have been made with the Commission:

1. Riverside Canal Power Company

[Docket No. EC01-35-000]

Take notice that on January 10, 2001, Riverside Canal Power Company (Riverside) tendered for filing, pursuant to section 203 of the Federal Power Act, supplemental information for its application for authority to lease certain jurisdictional facilities to Southern California Edison Company for the periods of August 15, 2000 to October 30, 2000 and from June 1, 2001 through October 31, 2001.

Comment date: January 24, 2001, in accordance with Standard Paragraph E at the end of this notice.

2. Enron North America Corp., Brownsville Power I, L.L.C., Caledonia Power I, L.L.C., and Cinergy Capital & Trading, Inc.

[Docket No. EC01-53-000]

Take notice that on January 10, 2001, Enron North America Corp. (ENA), on behalf of two wholly-owned subsidiaries, (Brownsville Power I, L.L.C. (Brownsville) and Caledonia Power I, L.L.C. (Caledonia)), and Cinergy Capital & Trading, Inc. (CCT) tendered for filing an application requesting all necessary authorizations under section 203 of the Federal Power Act for ENA to sell, and for CCT to purchase, securities evidencing one hundred percent (100%) ownership interests in Brownsville and Caledonia.

Comment date: January 31, 2001, in accordance with Standard Paragraph E at the end of this notice.

3. Citizens Utilities Company

[Docket Nos. ER95-1586-007; EL96-17-000; OA96-184-000]

Take notice that on January 3, 2001, in compliance with the Commission's letter order of November 13, 1997 approving the September 12, 1997 Settlement Agreement in the above-referenced proceedings, Citizens Communications Company (CCC), formerly known as Citizens Utilities Company, filed its Second Refunds Compliance Report.

A copy of this filing was served on the service list in the above-referenced dockets. In addition, a copy is available for inspection at the offices of CCC's Vermont Electric Division during regular business hours.

Comment date: January 24, 2001, in accordance with Standard Paragraph E at the end of this notice.

4. Citizens Utilities Company

[Docket Nos. ER95-1586-008; EL96-17-003; OA96-184-005]

Take notice that on January 3, 2001, in compliance with the terms of the September 12, 1997 Settlement Agreement in the above-referenced proceedings, as amended, Citizens Communications Company (CCC), formerly known as Citizens Utilities Company, filed certain tariff and rate schedule sheets with respect to its Vermont Electric Division's open access transmission tariff (CCC's FERC Electric Tariff Original Volume No. 2), and Rate Schedule FERC No. 28. To comply with the terms of the Settlement Agreement, CCC requests an effective date of January 3, 2001 for these tariff and rate schedule sheets.

A copy of this filing was served on the service list in the above-referenced proceedings. In addition, a copy is available for inspection at the offices of CCC's Vermont Electric Division during regular business hours.

Comment date: January 24, 2001, in accordance with Standard Paragraph E at the end of this notice.

5. Citizens Utilities Company

[Docket Nos. ER95-1586-009; EL96-17-000; OA96-184-000]

Take notice that on January 5, 2001, Citizens Communications Company (CCC), formerly known as Citizens Utilities Company, filed a supplement to the Second Refunds Compliance Report, which CCC filed with the Commission on January 3, 2001.

A copy of this filing was served on the service list in the above-referenced proceedings. In addition, a copy is available for inspection at the offices of CCC's Vermont Electric Division during regular business hours.

Comment date: January 26, 2001, in accordance with Standard Paragraph E at the end of this notice.

6. Entergy Services, Inc.

[Docket No. ER01-475-001]

Take notice that on January 8, 2000, Entergy Services, Inc. (Entergy), on behalf of Entergy Mississippi, Inc., tendered for filing in this docket a supplement to its November 17, 2000 filing of the First Revised Interconnection Agreement with Southaven Power LLC. Entergy states that the filing consists of a revised blackline version of the First Revised Interconnection Agreement that reflects the changes to the agreement resulting from that filing.

Comment date: January 29, 2001, in accordance with Standard Paragraph E at the end of this notice.

7. Williams Energy Marketing & Trading Company

[Docket No. ER01-911-000]

Take notice that on January 8, 2001, Williams Energy Marketing & Trading Company (Williams EM&T) tendered for filing pursuant to Section 205 of the Federal Power Act (FPA), 16 U.S.C. 824d (1994), and part 35 of the Commission's Regulations, 18 CFR part 35, revised pages to the Reliability Must-Run Service Agreements (RMR Agreements) between Williams EM&T and the California Independent System Operator Corporation (ISO) for certain RMR units located at the Alamitos, Huntington Beach, and Redondo Beach Generating Stations.

The purpose of the filing is to update Williams EM&T's existing RMR Agreements to reflect an extension of two of the three existing RMR Agreements, a change in units under those agreements, and certain annual updates to Schedules A, B, C, D, F and J of the RMR Agreements.

Williams EM&T requests waiver of the prior notice requirements of Section 35.3 of the Commission's regulations, 18 CFR 35.3, to permit its revised RMR Agreements to become effective as of January 1, 2001.

Copies of the filing were served upon the ISO and Southern California Edison Company.

Comment date: January 29, 2001, in accordance with Standard Paragraph E at the end of this notice.

8. Central Maine Power Company

[Docket No. ER01-912-000]

Take notice that on January 8, 2001, Central Maine Power Company (CMP) submitted for filing a “Transmission and Distribution Separation Filing,” in order to separate CMP's overall transmission and distribution requirement into its components. The Maine Public Utility Commission has approved this transmission and distribution split pursuant to Order No. 888's seven-factor test.

Comment date: January 29, 2001, in accordance with Standard Paragraph E at the end of this notice.

9. Entergy Services, Inc.

[Docket No. ER01-913-000]

Take notice that on January 8, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Transmission Management Services, L.L.C.

Comment date: January 29, 2001, in accordance with Standard Paragraph E at the end of this notice.

10. Commonwealth Edison Company

[Docket No. ER01-914-000]

Take notice that on January 8, 2001, Commonwealth Edison Company (ComEd) submitted for filing an executed Dynamic Scheduling Agreement (Agreement) with its Wholesale Merchant Function Division (WMD) under ComEd's Open Access Transmission Tariff (OATT). The Agreement provides the necessary arrangements for Dynamic Scheduling under a Service Agreement for 35 MW of point-to-point transmission service from ComEd to AEP to service a load connected to the AEP system for the period January 1, 2001 to December 31, 2001.

ComEd requests an effective date of January 1, 2001.

Comment date: January 29, 2001, in accordance with Standard Paragraph E at the end of this notice.

11. CPN Pleasant Hill, LLC and CPN Pleasant Hill Operating, LLC

[Docket No. ER01-915-000]

Take notice that on January 8, 2001, CPN Pleasant Hill, LLC (CPN), and CPN Pleasant Hill Operating LLC (CPN Operating) tendered for filing proposed market-based rate schedules and under which CPN and CPN Operating will make wholesale sales of electric energy, capacity, and ancillary services at market-based rates. In addition, CPN Operating submits for filing under section 205 of the Federal Power Act two power sales agreements.

Comment date: January 29, 2001, in accordance with Standard Paragraph E at the end of this notice.

12. Arizona Public Service Company

[Docket No. ER01-916-000]

Notice of Filing: Take notice that on January 9, 2001, Arizona Public Service Company (APS) tendered for filing Service Agreements to provide Long-Term Firm Point-to-Point Transmission Service to Public Service Company of New Mexico, Wholesale Power Marketing under APS” Open Access Transmission Tariff.

A copy of this filing has been served Public Service Company of New Mexico, Wholesale Power Marketing, and the Arizona Corporation Commission.

Comment date: January 30, 2001, in accordance with Standard Paragraph E at the end of this notice.

13. Arizona Public Service Company

[Docket No. ER01-917-000]

Take notice that on January 9, 2001, Arizona Public Service Company (APS) tendered for filing a Generator Interconnection Facilities Construction Agreement that sets forth an arrangement under which APS will construct, own, and operate interconnection facilities for Panda Gila River, L.P. The interconnection facilities are necessary to deliver power from Panda's proposed generating facility.

A copy of this filing has been served on the Arizona Corporation Commission and Panda Gila River, L.P.

Comment date: January 30, 2001, in accordance with Standard Paragraph E at the end of this notice.

14. Arizona Public Service Company and Arizona Electric Power Cooperative, Inc.

[Docket No. ER01-918-000]

Take notice that January 9, 2001, Arizona Public Service Company (APS) and Arizona Electric Power Cooperative, Inc. filed a Notice of Cancellation of APS-FPC Rate Schedule No. 62.

Copies of the filing have been sent to AEPCO and the Arizona Corporation Commission.

Comment date: January 30, 2001, in accordance with Standard Paragraph E at the end of this notice.

15. Engage Energy America, LLC.

[Docket No. ER01-919-000]

Take notice that on January 9, 2001, Engage Energy America LLC. submitted a Notice of Succession pursuant to 18 CFR 35.16 and 131.51 of the Commission's regulations. Engage Energy America Corp (WGSI Delaware) has changed its name to Engage Energy America LLC. and effective December 29, 2000, succeeded to Engage Energy America Corp.”s First Revised Rate Schedule FERC No. 1, Market-Based Rate Schedule filed in Docket No. ER01-251-000, which was effective October 27, 2000.

Comment date: January 30, 2001, in accordance with Standard Paragraph E at the end of this notice.

16. Northern Indiana Public Service Company

[Docket No. ER01-920-000]

Take notice that on January 9, 2001, Northern Indiana Public Service Company tendered for filing an executed Standard Transmission Service Agreement for Non-Firm Point-to-Point Transmission Service between Northern Indiana Public Service Company and Engage Energy America Corporation (EEAC).

Under the Transmission Service Agreement, Northern Indiana Public Service Company will provide Point-to-Point Transmission Service to EEAC pursuant to the Transmission Service Tariff filed by Northern Indiana Public Service Company in Docket No. OA96-47-000 and allowed to become effective by the Commission.

Northern Indiana Public Service Company has requested that the Service Agreement be allowed to become effective as of January 10, 2001.

Copies of this filing have been sent to Engage Energy America Corporation, the Indiana Utility Regulatory Commission, and the Indiana Office of Utility Consumer Counselor.

Comment date: January 30, 2001, in accordance with Standard Paragraph E at the end of this notice.

17. Commonwealth Edison Company

[Docket No. ER01-921-000]

Take notice that on January 9, 2001, Commonwealth Edison Company (ComEd) tendered for filing a MBR Sales Agreement with NewEnergy Midwest, LLC as a customer under ComEd's FERC Electric Market Based-Rate Schedule for power sales.

ComEd requests an effective date of December 20, 2000 for the agreement and accordingly seeks waiver of the Commission's notice requirements.

Copies of the filing were served on NewEnergy Midwest, LLC.

Comment date: January 30, 2001, in accordance with Standard Paragraph E at the end of this notice.

18. Westcoast Power Marketing Inc.

[Docket No. ER01-922-000]

Take notice that on January 9, 2001, Westcoast Power Marketing Inc. (Westcoast Power), Canada Trust Tower, 1100, 421-7th Avenue, SW. Calgary, Alberta, Canada T2P 4K9 filed in Docket No. ER95-378 pursuant to 18 CFR 35.13 and 131.53 of the Federal Energy Regulatory Commission's Rules and Regulations, a Notice of Cancellation to become effective January 10, 2001.

Westcoast Power states that it has never entered into any wholesale electric power or energy transactions, and has never utilized its Electric Rate Schedule FERC No. 1.

Comment date: January 30, 2001, in accordance with Standard Paragraph E at the end of this notice.

19. Southern California Edison Company

[Docket No. ER01-923-000]

Take notice, that on January 9, 2001, Southern California Edison Company (SCE) tendered for filing the SCE-CDWR Cherry Valley, Crafton Hills and Greenspot Pumping Stations Interconnection Facilities Agreement (Agreement) between SCE and the State of California Department of Water Resources (CDWR).

Copies of this filing were served upon the Public Utilities Commission of the State of California and the State of California Department of Water Resources.

Comment date: January 30, 2001, in accordance with Standard Paragraph E at the end of this notice.

20. Florida Keys Electric Cooperative Association, Inc.

[Docket No. ES01-15-000]

Take notice that on January 5, 2001, Florida Keys Electric Cooperative Association, Inc. (Florida Keys) submitted an application pursuant to section 204 of the Federal Power Act seeking authorization to issue short-term promissory notes in an amount not to exceed $8.7 million.

Florida Keys also requests a waiver of the Commission's competitive bidding and negotiated placement requirements at 18 CFR 34.2.

Comment date: February 2, 2001, in accordance with Standard Paragraph E at the end of this notice.

21. Ogden Martin Systems of Fairfax, Inc.

[Docket No. ES01-16-000]

Take notice that on January 8, 2001, Ogden Martin Systems of Fairfax, Inc. submitted an application pursuant to section 204 of the Federal Power Act seeking a blanket authorization to issue securities and debt.

Comment date: January 29, 2001, in accordance with Standard Paragraph E at the end of this notice.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the Comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-1781 Filed 1-19-01; 8:45 am]

BILLING CODE 6717-01-P